DEPARTMENT OF HOMELAND SECURITY

Coast Guard

33 CFR Part 117

[CGD11-06-003]

RIN 1625-AA09

Drawbridge Operation Regulation; Carquinez Strait, Benicia and Martinez, CA

AGENCY: Coast Guard, DHS.

ACTION: Notice of temporary deviation from regulations.

SUMMARY: The Commander, Eleventh Coast Guard District, has issued a temporary deviation from the regulation governing the operation of the Benicia-Martinez Railroad Drawbridge across the Carquinez Strait, mile 7.0, between Benicia and Martinez, CA. This deviation allows the bridge to remain in the closed-to-navigation position during the deviation period. This deviation is necessary for the bridge owner, Union Pacific Railroad Company, to perform essential cable replacement and repair work at the bridge.

DATES: This deviation is effective from 7 a.m. on April 17, 2006 to 5 p.m. on April 21, 2006.

ADDRESSES: Materials referred to in this document are available for inspection or copying at Commander (dpw), Eleventh Coast Guard District, Building 50-3, Coast Guard Island, Alameda, CA 94501-5100, between 8 a.m. and 4 p.m., Monday through Friday, except Federal holidays. The Bridge Section office maintains the public docket for this temporary deviation.

FOR FURTHER INFORMATION CONTACT: David H. Sulouff, Chief, Bridge Section, Eleventh Coast Guard District, telephone (510) 437-3516.

SUPPLEMENTARY INFORMATION: On March 13, 2006, the Union Pacific Railroad Company requested a temporary change to the operation of the Benicia-Martinez Railroad Drawbridge, mile 7.0, Carquinez Strait, between Benicia and Martinez, CA. The Benicia-Martinez Railroad Drawbridge navigation span provides vertical clearance of 70 feet above Mean High Water in the closed-to-navigation position. Presently, the draw opens on signal as required by 33 CFR 117.5. Navigation on the waterway consists of both commercial and recreational watercraft. The Union Pacific Railroad Company requested the drawbridge be allowed to remain closed to navigation from 7 a.m. on April 17, 2006 to 5 p.m. on April 21, 2006. During this time replacement and repair to the bridge cables, and associated maintenance on the lift assembly, will occur. This temporary drawbridge deviation has been coordinated with the waterway users. No objections to the proposed temporary rule were raised. Vessels can pass underneath the bridge in the closed position. The drawbridge can open in an emergency upon five hours advance notice.

In accordance with 33 CFR 117.35(c), this work will be performed with all due speed in order to return the drawbridge to normal operation as soon as possible. This deviation from the operating regulations is authorized under 33 CFR 117.35.

Dated: March 30, 2006.
Robert C. Lorigan,
Captain, U.S. Coast Guard, Acting Commander, Eleventh Coast Guard District.

[FR Doc. 06-3562 Filed 4-12-06; 8:45 am]

BILLING CODE 4910-15-P